DEPARTMENT OF AGRICULTURE

Forest Service

National Urban and Community Forestry Advisory Council

AGENCY: Forest Service, USDA.

ACTION: Notice of meeting.

SUMMARY: The National Urban and Community Forestry Advisory Council will meet in Washington, DC, on January 25-26, 2012, at the U.S. Department of Agriculture (USDA) Whitten Building. The purpose of this meeting is to discuss finalizing the Council's 2011 annual accomplishment report, recommendations for the Secretary of Agriculture, develop the 2012 plan of work, and hear public input related to urban and community forestry.

DATES: The meeting will be held on January 25 and 26, 2012, 9 a.m. to 5 p.m. or until Council business is completed.

ADDRESSES: The meeting will be held at the USDA Whitten Building, 12th and Jefferson Drive SW., Washington, DC, 20250; Phone: (202) 205-7829.

Written comments concerning this meeting should be addressed to Nancy Stremple, Executive Staff to the National Urban and Community Forestry Advisory Council, 201 14th Street SW., Yates Building (1 Central) MS-1151, Washington, DC 20250-1151. Comments may also be sent via email to nstremple@fs.fed.us, or via facsimile to (202) 690-5792.

All comments, including names and addresses when provided, are placed in the record and are available for public inspection and copying. Visitors are encouraged to call ahead to facilitate entry into the Forest Service building.

FOR FURTHER INFORMATION CONTACT: Nancy Stremple, Executive Staff to the National Urban and Community Forestry Advisory Council, 201 14th Street SW., Yates Building (1 Central) MS-1151, Washington, DC 20250-1151, phone (202) 205-1054.

Individuals who use telecommunication devices for the deaf (TDD) may call the Federal Information Relay Service (FIRS) at 1-(800) 877-8339 between 8 a.m. and 8 p.m., Eastern Standard Time, Monday through Friday.

SUPPLEMENTARY INFORMATION: The meeting is open to the public. Those interested in attending should contact Nancy Stremple to be placed on the meeting attendance list. Council discussion is limited to Forest Service staff and Council members; however, persons who wish to bring urban and community forestry matters to the attention of the Council may file written statements with the Council staff (201 14th Street SW., Yates Building (1 Central) MS-1151, Washington, DC 20250-1151, email: nstremple@fs.fed.us) before or after the meeting. Public input sessions will be provided at the meeting.

Dated: December 20, 2011
Robin L. Thompson,
Associate Deputy Chief, State and Private Forestry.

[FR Doc. 2011-33216 Filed 12-27-11; 8:45 am]

BILLING CODE 3410-11-P